DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of April 19, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Baldwin County, Alabama and Incorporated Areas
Docket No.: FEMA-B-1771
City of Bay Minette | City Hall, 301 D'Olive Street, Bay Minette, AL 36507.
City of Daphne | City Hall, 1705 Main Street, Daphne, AL 36526.
City of Fairhope | Building Department, 555 South Section Street, Fairhope, AL 36533.
City of Foley | Community Development Building, 200 North Alston Street, Foley, AL 36535.
City of Gulf Shores | Building Department, 205 Clubhouse Drive, Suite B, Gulf Shores, AL 36542.
City of Orange Beach | Floodplain Administrator's Office, 4101 Orange Beach Boulevard, Orange Beach, AL 36561.
City of Robertsdale | City Hall, 22647 Racine Street, Robertsdale, AL 36567.
City of Spanish Fort | Building Department, 7361 Spanish Fort Boulevard, Spanish Fort, AL 36527.
Town of Elberta | Civic Center, 25070 Pine Street, Elberta, AL 36530.
Town of Loxley | Town Hall, 1089 South Hickory Street, Loxley, AL 36551.
Town of Magnolia Springs | Town Hall, 12191 Magnolia Springs Highway, Magnolia Springs, AL 36555.
Town of Perdido Beach | Town Hall, 9212 County Road 97, Perdido Beach, AL 36530.
Town of Silverhill | Town Hall, 15965 Silverhill Avenue, Silverhill, AL 36576.
Town of Summerdale | Baldwin County Building Inspection Department, 201 East Section Avenue, Foley, AL 36535.
Unincorporated Areas of Baldwin County | Baldwin County Building Inspection Department, 201 East Section Avenue, Foley, AL 36535.
Sierra County, California and Incorporated Areas
Docket No.: FEMA-B-1714
Unincorporated Areas of Sierra County | Sierra County Department of Planning, 101 Courthouse Square, Downieville, CA 95936.
Caldwell County, Kentucky and Incorporated Areas
Docket No.: FEMA-B-1709
City of Fredonia | City Hall, 312 Cassidy Avenue, Fredonia, KY 42411.
City of Princeton | City Hall, 206 East Market Street, Princeton, KY 42445.
Unincorporated Areas of Caldwell County | Caldwell County Courthouse, 100 East Market Street, Princeton, KY 42445.
Christian County, Kentucky and Incorporated Areas
Docket No.: FEMA-B-1709
City of Hopkinsville | Christian County Community Development Services, 710 South Main Street, Hopkinsville, KY 42240.
Unincorporated Areas of Christian County | Christian County Community Development Services, 710 South Main Street, Hopkinsville, KY 42240.
Trigg County, Kentucky and Incorporated Areas
Docket No.: FEMA-B-1709
City of Cadiz | City Hall, 63 Main Street, Cadiz, KY 42211.
Unincorporated Areas of Trigg County | Trigg County Courthouse Annex, 38 Main Street, Suite 101, Cadiz, KY 42211.

[FR Doc. 2019-03366 Filed 2-26-19; 8:45 am]

BILLING CODE 9110-12-P